DEPARTMENT OF DEFENSE

Department of the Army, Corps of Engineers

Intent to Hold An Environmental Scoping Meeting To Solicit Citizen Input Into a Study of an Environmental Dredging Project on the Mahoning River in Ohio

Correction

In notice document 02-17470 beginning on page 45959 in the issue of Thursday, July 11, 2002, make the following corrections:

1. On page 45959, in the third column, under ADDRESSES: in the ninth line, the e-mail address is corrected to read as set forth below, “lrp.mahdredge@usace.army.mil”.

2. On page 45959, in the same column, under FOR FURTHER INFORMATION CONTACT:, in the fifth line, “ (412) 395-7213” should read “(412) 395-7212”.

3. On the same page, in the same column, under the same heading, in the sixth line, the e-mail address is corrected to read as set forth below, “lrp.mahdredge@usace.army.mil”.

4. On page 45960, in the first column, in the 15th line, “dure” should read “due”.

[FR Doc. C2-17470 Filed 7-17-02; 8:45 am]

BILLING CODE 1505-01-D

DEPARTMENT OF THE TREASURY

Internal Revenue Service

26 CFR Part 301

[TD 9001]

RIN 1545-BA56

Disclosure of Return Information to Officers and Employees of the Department of Agriculture for Certain Statistical Purposes and Related Activities

Correction

In rule document 02-15351 beginning on page 41621 in the issue of Wednesday, June 19, 2002 make the following correction:

On page 41621, in the third column, in the ninth line, “(§ 301.6103(j)(5)-(1)” should read “(§ 301.6103(j)(5)-1)”.

[FR Doc. C2-15351 Filed 7-17-02; 8:45 am]

BILLING CODE 1505-01-D